DEPARTMENT OF ENERGY

Federal Energy Regulatory Commission

Notice of Intent To File Application for a New License

April 26, 2001.

Take notice that the following notice of intent has been filed with the Commission and is available for public inspection.

a. Type of filing: Notice of Intent to File an Application for New License.

b. Project Nos: 135 and 2195.

c. Date filed: April 9, 2001.

d. Submitted by: Portland General Electric Company (PGE).

e. Name of Projects: Oak Grove Project P-135 and North Fork Project P-2195.

f. Location: The Oak Grove and the North Fork Projects are located on the Clackamas River in Clackamas County, Oregon.

g. Filed Pursuant to: Section 15 of the Federal Power Act, 18 CFR 16.6.

h. Pursuant to Section 16.19 of the Commission's regulations, the licensee is required to make available the information described in Section 16.7 of the regulations. Such information is available from the licensee at Portland General Electric Company, Hydro Licensing Department, 3WTC-BRHL, 121 SW Salmon Street, Portland, Oregon 97204.

i. FERC Contact: John Blair, (202) 219-2845, John.Blair.@ferc.fed.us.

j. Expiration Date of Current License: August 31, 2006.

k. The installed plant capacity of the Oak Grove Project is 44,000 kilowatts (kw). The combined installed plant capacity of the North Fork, Faraday, and River Mill powerhouse(s) is 121,000 kw.

l. The licensee states its unequivocal intent to submit an application for a new license for Project No. 135 and Project No. 2195. Pursuant to 18 CFR 16.9(b)(1) each application for a new license and any competing license applications must be filed with the Commission at least 24 months prior to the expiration of the existing license. All applications for license for this project must be filed by August 31, 2004.

m. A copy of the notice of intent is available for inspection and reproduction at the Commission's Public Reference Room, located at 888 First Street, NE, Room 2A, Washington, DC 20426, or by calling (202) 208-1371. The notice may be viewed on http://www.ferc.fed.us/online/rims.htm (call 202-208-2222 for assistance). A copy is also available for inspection and reproduction at the address in item h above.

David P. Boergers,
Secretary.

[FR Doc. 01-10909 Filed 5-1-01; 8:45 am]

BILLING CODE 6717-01-M